DEPARTMENT OF ENERGY

Notice of Meeting on Beneficial Reuse Options for Used Lubricating Oil

AGENCY: Office of Oil and Natural Gas, Office of Fossil Energy, U.S. Department of Energy.

ACTION: Notice of public meeting.

SUMMARY: The Office of Oil and Natural Gas will host a meeting on the subject of beneficial reuse options for used lubricating oil, including ways to increase the responsible collection and use of used oil (current and future use options); disseminate public information concerning sustainable reuse options for used oil; and promote sustainable reuse of used oil by Federal agencies, recipients of Federal grant funds, entities contracting with the Federal Government, and the general public.

DATES: The public meeting will be held on Wednesday, October 16, 2019 from 1:00 p.m. to 5:00 p.m. EST.

ADDRESSES: The public meeting will be held at the U.S. Department of Energy (DOE), 1000 Independence Avenue SW, Room 4A-104, Washington, DC 20585; and via Webex. Meeting call-in number: (415) 527-5035; Access Code: 909-426-841#; Webex link: https://doe.webex.com/doe/j.php?MTID=me29f2fb4aab82433e875a3b209c81de0.

FOR FURTHER INFORMATION CONTACT: Questions may be directed to: Evan Frye by email at Evan.Frye@hq.doe.gov, or by postal mail addressed to U.S. Department of Energy, 1000 Independence Avenue SW, Mail Stop FE-32.2, Washington, DC 20585. Telephone: (202) 586-5600.

SUPPLEMENTARY INFORMATION: The meeting is open to the public. Participation via Webex is encouraged due to limited seating in the meeting room. DOE's Forrestal Building is a secured and controlled facility and entry requires obtaining a visitor's badge at the reception desk. Please direct all media inquiries to the Office of Fossil Energy Public Affairs Officer at 1-202-586-6660.

Those planning to attend the meeting are required to register at the event website: https://events.eventzilla.net/e/beneficial-reuse-options-for-used-lubricating-oil-2138760918.

Signed in Washington, DC, on October 8, 2019.
Steven E. Winberg,
Assistant Secretary, Office of Fossil Energy.

[FR Doc. 2019-22536 Filed 10-15-19; 8:45 am]

BILLING CODE 6450-01-P